ENVIRONMENTAL PROTECTION AGENCY

40 CFR Part 300

[FRL-6604-8]

National Oil and Hazardous Substances Pollution Contingency Plan; National Priorities List

AGENCY: Environmental Protection Agency (EPA).

ACTION: Direct Final Action to Delete Releases at the Mid-Atlantic Wood Preservers, Inc. Site from the National Priorities List (NPL).

SUMMARY: The EPA announces the deletion of releases at the Mid-Atlantic Wood Preservers, Inc. Site (the Site) from the NPL. The NPL is appendix B of 40 CFR part 300, which is the National Oil and Hazardous Substances Pollution Contingency Plan (NCP), which EPA promulgated pursuant to Section 105 of the Comprehensive Environmental Response, Compensation, and Liability Act of 1980 (CERCLA), as amended. The EPA has determined that no further response pursuant to CERCLA is appropriate.

DATES: This “direct final” action will be effective July 18, 2000 unless EPA receives dissenting comments by June 19, 2000. If adverse comments are received, EPA will publish a timely withdrawal of the direct final rule in the Federal Register informing the public that the rule will not take effect.

ADDRESSES: Comments may be mailed to Matthew T. Mellon, Remedial Project Manager, U.S. EPA, Region III, 1650 Arch Street (3HS23), Philadelphia, PA 19103-2029.

Comprehensive information on the Site is available at EPA's Region III office and at the local information repository located at the Provinces Branch Library, Severn Square Shopping Center, 2624 Annapolis Road, Severn, MD 21144.

Requests for copies of documents associated with this action should be directed to the Region III Docket Office. The address and phone number for the Regional Docket Office is U.S. EPA Region III Public Reading Room, 1650 Arch Street, Philadelphia, PA 19103-2029; (215) 814-3157.

FOR FURTHER INFORMATION CONTACT:

Matthew T. Mellon, Remedial Project Manager, U.S. EPA, Region III, 1650 Arch Street (3HS23), Philadelphia, PA 19103-2029, (215) 814-3168, or

Richard Kuhn, Community Involvement Coordinator, U.S. EPA, Region III, 1650 Arch Street (3HS43), Philadelphia, PA 19103-2029, (215) 814-3063.

SUPPLEMENTARY INFORMATION:

Table of Contents

I. Introduction

II. NPL Deletion Criteria

III. Deletion Procedures

IV. Basis for Intended Site Deletion

V. Action

I. Introduction

EPA Region III announces the deletion of releases at the Site from the NPL, which constitutes Appendix B of the NCP. The EPA identifies sites that appear to present a significant risk to public health, welfare or the environment, and maintains the NPL as the list of those sites. Sites on the NPL may be the subject of remedial actions financed by the Hazardous Substance Superfund (Fund). Pursuant to § 300.425(e)(3) of the NCP, any site deleted from the NPL remains eligible for Fund-financed remedial actions if the conditions at the Site warrant such action.

The EPA will accept comments on this notice for 30 days after publication of this notice in the Federal Register.

Section II of this notice explains the criteria for deleting sites from the NPL. Section III discusses procedures that EPA is using for this action. Section IV discusses the history of the Mid-Atlantic Wood Preservers, Inc. Site and explains how the Site meets the deletion criteria. Section V announces EPA's intention to delete the Site from the NPL unless dissenting comments are received during the comment period.

II. NPL Deletion Criteria

The NCP establishes the criteria that EPA uses to delete Sites from the NPL. In accordance with 40 CFR 300.425(e), sites may be deleted from the NPL where no further response is appropriate. In making this determination, EPA will consider, in consultation with the State, whether any of the following criteria have been met:

(i) Responsible parties or other persons have implemented all appropriate response actions required; or

(ii) All appropriate Fund-financed response under CERCLA has been implemented, and no further response action by responsible parties is appropriate; or

(iii) The remedial investigation has shown that the release poses no significant threat to public health or the environment and, therefore, taking of remedial measures is not appropriate.

Sites may not be deleted from the NPL until the State in which the site is located has concurred on the proposed deletion.

III. Deletion Procedures

Section 300.425(e)(4) of the NCP sets forth requirements for site deletions to ensure public involvement in the decision. The EPA is required to conduct the following activities:

(i) Publish a notice of intent to delete in the Federal Register and solicit comment through a public comment period of a minimum of 30 calendar days;

(ii) Publish a notice of availability of the notice of intent to delete in a major local newspaper of general circulation at or near the Site;

(iii) Place copies of information supporting the proposed deletion in the information repository at or near the site proposed for deletion; and,

(iv) Respond to each significant comment and any significant new data submitted during the comment period and include this response document in the final deletion package.

Upon completion of the public comment period, the EPA Regional Office will, if necessary, prepare a Responsiveness Summary to evaluate and address comments that were received. The public is welcome to contact the EPA Region III Office to obtain a copy of this Responsiveness Summary, if one is prepared.

If none of the comments received during the comment period are dissenting, the Site will be deleted from the NPL, effective July 18, 2000.

Deletion of sites from the NPL does not itself create, alter, or revoke any individual's rights or obligations. Furthermore, deletion from the NPL does not in any way alter EPA's right to take enforcement actions, as appropriate. The NPL is designed primarily for informational purposes and to assist Agency management.

IV. Basis for Site Deletion

The Mid-Atlantic Wood Preservers, Inc. Site occupies approximately 3.17 acres straddling Shipley Avenue in Harmans, Anne Arundel County, Maryland in a mixed industrial and residential area. Between 1974 and February 1993, the Site was occupied by a wood treatment facility operated under the name of Fort McHenry Lumber Company, d/b/a Mid-Atlantic Wood Preservers, Inc. (collectively MAWP). Until MAWP ceased operations, this facility utilized a chromated copper arsenate (CCA) water-borne wood treating process. This two-part process began by pressure treating dimensional lumber in a housed processing plant. The wood was then moved to a concrete drip pad and left to dry. The facility consisted of two parcels: a Treatment Yard to the east of Shipley Avenue and a Storage Yard to the west.

Stoney Run Creek flows north through a wetland area approximately six hundred feet west of the Site, extending approximately four miles before discharging to the Patapsco River near Elkridge, Maryland. Drainage from the Treatment Yard enters the storm water drain in Shipley Avenue, which ultimately discharges to Stoney Run Creek, approximately 1200 feet from the Site. Drainage from the Storage Yard flows west to Stoney Run Creek.

In 1978, water in a shallow residential well hydraulically downgradient of the MAWP facility was found to contain up to 19,500 μg/l chromium, far exceeding the Federal and State drinking water standard of 50 μg/l for chromium (this standard has since been increased to 100 μg/l). Subsequently, the Maryland Water Resources Administration (WRA) identified MAWP as a user of chromium and a potential source of ground water contamination.

In February 1979, the Maryland WRA determined that MAWP had discharged CCA into the soil and that the ground water beneath the facility had become contaminated with chromium and arsenic. The Maryland WRA issued an Administrative Order requiring MAWP to develop and implement a plan to remove contaminated soil and to remediate contaminated ground water in the vicinity of the facility. Mandated actions included removal of twenty-six cubic yards of contaminated soil at the facility, modification of the product storage system to prevent overflows, and installation of a concrete drainage pad to collect CCA drippings. On December 26, 1980, Maryland WRA issued a “Notice of Compliance.”

A Site Investigation was performed at the Site by EPA in January 1983. Analyses of ground water indicated that arsenic and chromium levels in the ground water still exceeded drinking water standards. The public water supply was extended to properties in the area by the local government. The Site was promulgated to the National Priorities List (NPL) in June 1986. In July 1986, MAWP entered into a Consent Order with EPA to perform a Remedial Investigation and Feasibility Study (RI/FS) at the Site.

The RI reaffirmed the presence of elevated levels of arsenic in the on-Site soil and slightly elevated levels of chromium in the ground water. The risk assessment concluded that arsenic and chromium were contaminants of concern and that the potential carcinogenic risk at the Site was dominated by incidental ingestion of on-Site surface soil by workers. On December 31, 1990, the EPA Regional Administrator signed the Record of Decision (ROD) identifying the remedial action to be taken to address the unacceptable risks to human health identified in the RI/FS process.

In December 1991, following unsuccessful efforts to negotiate a Consent Decree with MAWP, EPA issued a Unilateral Administrative Order (UAO) requiring MAWP to implement the selected remedy. The selected remedy, as described in the ROD and the UAO, consisted of the following:

• Excavation, stabilization and off-site disposal of “hot spots” of contaminated soils with arsenic concentrations greater than 1,000 mg/kg;

• Construction of an enlarged roofed drip pad that complies with the Resource Conservation and Recovery Act (RCRA) Subpart W wood treating regulations;

• Capping of those portions of the Treatment Yard that were not covered by the treatment plant, enlarged drip pad or paved parking area with an asphalt/concrete cap;

• Capping of soils in the Storage Yard contaminated with arsenic exceeding 10 mg/kg with an asphalt/concrete cap;

• Excavation of any off-Site soils containing arsenic at concentrations greater than 10 mg/kg (i.e., background concentration of arsenic in area soils) and consolidation of those soils on-Site prior to paving with the asphalt/concrete cap;

• Environmental monitoring to ensure the effectiveness of the remedy;

• Implementation of a deed restriction to preclude future land use which might compromise the effectiveness of the remedy.

Pre-design sampling performed in April and June 1992 indicated that no soil on- or off-site had concentrations of arsenic greater than 1,000 mg/kg and therefore, excavation, stabilization and off-site disposal was not necessary. Predesign sampling did, however, indicate that surface soils on a portion of the adjacent Number One Supply property had been contaminated by runoff from the MAWP property. The sampling results indicated that the western portion of the Number One Supply property nearest the paved parking lot was not contaminated (i.e., levels of arsenic were less than 10 mg/kg), but the center portion and the eastern portions of the property did contain arsenic at concentrations greater than 10 mg/kg.

On February 4, 1993, MAWP informed EPA that it was ceasing business operations and closing the facility. Because MAWP was ceasing its wood treating operations, there was no longer a need to expand the drip pad to prevent potential future releases from wood drying operations. The remedial objectives were satisfied by extending the asphalt cap to all areas of the Treatment Yard not currently paved or covered by existing buildings, including those areas previously planned to be covered by the expanded drip pad.

The Remedial Action Work Plan and Remedial Design were approved by EPA on May 14, 1993. The scaled-back remedy included excavation and consolidation of contaminated soils from the Number One Supply property, paving of the MAWP property, implementation of institutional controls, long-term monitoring, and maintenance of the asphalt cap.

Construction activities were implemented from June to August 1993. In September 1993, EPA negotiated a Prospective Purchaser Agreement (PPA) with Gunther's Leasing Transport, Inc. (Gunther), which became effective January 24, 1994. In accordance with the PPA, Gunther agreed to implement the necessary institutional controls and perform operation and maintenance (O&M) activities, including environmental monitoring, as required by the EPA-approved O&M Plan. On July 5, 1994, Gunther filed EPA-approved “Restrictions on Land Use” for the MAWP site with the Clerk of Circuit Court, Anne Arundel County, Maryland.

Long-term environmental monitoring has been performed in accordance with the Post-Remedy Sampling and Analysis Plan contained in the RA Work Plan (ERM, April 1993). Monitoring and maintenance of the asphalt cap has been conducted with reports submitted to EPA on a biannual basis. A Five-Year Review dated August 26, 1998, confirmed that measures taken at the site remain effective, as do the results from long-term environmental monitoring completed on February 12, 1999.

The remedial action selected for the Site has been implemented in accordance with the Record of Decision. As a result, human health threats and potential environmental impacts arising from releases at the Site have been eliminated. Continued protection of human health and the environment will be achieved by maintenance activities and performance of the Five-Year Reviews, as required by CERCLA.

V. Action

The EPA, with concurrence from the State of Maryland, has determined that all appropriate response under CERCLA at the Site has been completed, and no further CERCLA response action is appropriate in order to provide protection of human health and environment. Therefore, EPA is deleting the Site from the NPL.

This action will be effective July 18, 2000. However, if EPA receives dissenting comments by June 19, 2000, EPA will publish a document that withdraws this action. If, after reviewing such comments, EPA decides to proceed with the deletion, EPA will publish a notice of deletion in the Federal Register and place copies of the final deletion package, including a Responsiveness Summary, in the Site repositories.

List of Subjects in 40 CFR Part 300

Environmental protection, Air pollution control, Chemicals, Hazardous substances, Hazardous waste, Intergovernmental relations, Penalties, Reporting and recordkeeping requirements, Water pollution control, Water supply.

Dated: April 5, 2000.
Bradley M. Campbell,
Regional Administrator, Region III.

Part 300, title 40 of the Code of Federal Regulations is amended as follows:

PART 300—[AMENDED]

1. The authority citation for part 300 continues to read as follows:

Authority: 33 U.S.C. 1321(c)(2); 42 U.S.C. 9601-9657; E.O. 12777, 56 FR 54757, 3 CFR, 1991 Comp.; p.351; E.O. 12580, 52 FR 2923, 3 CFR, 1987 Comp.; p. 193.

Appendix B [Amended]

2. Table 1 of Appendix B to part 300 is amended by removing the Site “Mid-Atlantic Wood Preservers, Inc., Harmans, Maryland.”.

[FR Doc. 00-12516 Filed 5-18-00; 8:45 am]

BILLING CODE 6560-50-P